DEPARTMENT OF HEALTH AND HUMAN SERVICES

National Institutes of Health

Submission for OMB Review; 30-Day Comment Request Collection of Customer Service, Demographic, and Smoking/Tobacco Use Information From the National Cancer Institute's (NCI) Cancer Information Service (CIS)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Candace Maynard, Branch Chief, Cancer Information Service Branch, CISB/OCPL, 9609 Medical Center Drive, Rockville, MD 20850, or call non-toll-free number 240-276-6657 or Email your request, including your address to: deatonc@mail.nih.gov. Formal requests for additional plans and instruments must be requested in writing.

SUPPLEMENTARY INFORMATION: This proposed information collection was previously published in the Federal Register on October 20, 2021 (Vol. 86 FR 58082) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Collection of Customer Service, Demographic, and Smoking/Tobacco use Information from the National Cancer Institute's (NCI) Cancer Information Service (CIS), 0925-0208, Expiration Date 2.28/2022, REVISION, National Cancer Institute (NCI), National Institutes of Health (NIH).

Need and Use of Information Collection: The National Cancer Institute (NCI) currently collects: (1) Customer service and demographic information from clients of the Cancer Information Service (CIS) in order to properly plan, implement, and evaluate cancer education efforts, including assessing the extent by which the CIS reaches and impacts underserved populations; (2) smoking/tobacco use behavior of individuals seeking NCI's smoking cessation assistance through the CIS in order to provide smoking cessation services tailored to the individual client's needs and track their smoking behavior at follow up. This is a request for OMB to approve a revised submission for an additional three years to provide ongoing customer service collection of demographic information, and collection of brief customer satisfaction questions from NCI Cancer Information Service Clients for the purpose of program planning and evaluation.

OMB approval is requested for 3 years. There are no costs to respondents other than their time. The total estimated annualized burden hours are 5,818 hours.

Estimated Annualized Burden Hours
Form name | Category of respondent | Number of respondents | Number of responses per respondent | Average time per response (in hours) | Total annual burden hours
Demographic & Customer Satisfaction Questions (Appendix 1A or 1AB) | Individuals | 24,133 | 1 | 3/60 | 1,207
Demographic & Customer Satisfaction Questions (Appendix 1B) | Individuals | 58,501 | 1 | 2/60 | 1,950
Smoking Cessation “Intake” Questions (Appendix 1C) | Individuals | 2,888 | 1 | 6/60 | 289
Smoking Call Backs (Appendix 1D) | Individuals | 2,904 | 1 | 4/60 | 194
VA Call Backs (Appendix 1E) | Individuals | 8,166 | 1 | 4/60 | 544
Cancer Info Call Backs (Appendix 1F) | Individuals | 2,242 | 1 | 4/60 | 149
Email Intake Form (Appendix 2) | Individuals | 8,796 | 1 | 10/60 | 1,466
Demographic & Customer Satisfaction Questions (Appendix 9) | Individuals | 578 | 1 | 2/60 | 19
Totals |  |  | 108,208 |  | 5,818

Dated: January 5, 2022.
Diane Kreinbrink,
Project Clearance Liaison, National Cancer Institute, National Institutes of Health.

[FR Doc. 2022-00230 Filed 1-7-22; 8:45 am]

BILLING CODE 4140-01-P